DEPARTMENT OF THE INTERIOR

Bureau of Land Management

[AK-910-09-1739-NSSI]

Call for Nominations: North Slope Science Initiative, Science Technical Advisory Panel, Alaska

AGENCY: Bureau of Land Management, Interior.

ACTION: Call for Nominations for the North Slope Science Initiative, Science Technical Advisory Panel.

SUMMARY: This notice announces a call for nominations to serve on the North Slope Science Initiative, Science Technical Advisory Panel in accordance with the provisions of the Federal Advisory Committee Act (FACA) of 1972, 5 U.S.C. Appendix.

DATES: Submit a completed nomination form and nomination letter to the address listed below no later than 45 days from the date of publication of this Notice.

FOR FURTHER INFORMATION CONTACT: John F. Payne, Ph.D, Executive Director, North Slope Science Initiative (AK-910), c/o Bureau of Land Management, Alaska State Office, 222 West 7th Avenue, #13, Anchorage, Alaska 99513, phone (907) 271-3431, or john_f_payne@blm.gov.

SUPPLEMENTARY INFORMATION: The purpose of the Science Technical Advisory Panel is to advise the North Slope Science Oversight Group on issues such as identifying and prioritizing inventory, monitoring and research needs, and providing other scientific as requested by the Oversight Group. The Oversight Group consists of the Alaska Regional Directors of the U.S. Fish and Wildlife Service, National Park Service, Minerals Management Service, and National Marine Fisheries Service; the BLM-Alaska State Director; The Commissioners of the Alaska Departments of Fish and Game and Natural Resources; the Mayor of the North Slope Borough and the president of the Arctic Slope Regional Corporation. Advisory to the Oversight Group are the Regional Executive, U.S. Geological Survey, Alaska Director, U.S. Arctic Research Commission, and the Regional Directors of the National Weather Service and U.S. Department of Energy, National Energy Technology Laboratory.

The Science Technical Advisory Panel shall consist of a representative group of not more than 15 scientists and technical experts from diverse professions and interests, including the oil and gas industry, subsistence users, Alaska Native entities, conservation organizations, and academia, as determined by the Secretary of the Interior. The members will be selected from among, but not limited to, the following disciplines: North Slope traditional and local knowledge, landscape ecology, petroleum engineering, civil engineering, geology, botany, hydrology, limnology, habitat biology, wildlife biology, biometrics, sociology, cultural anthropology, economics, ornithology, oceanography, fisheries biology, and climatology.

The duties of the Science Panel are solely advisory to the Oversight Group, which will give direction to the Science Panel regarding priorities for decisions needed for the Department of the Interior's management. Duties could include the following:

a. Advise the Oversight Group on science planning and relevant research and monitoring projects;

b. Advise the Oversight Group on scientific information relevant to the Oversight Group's mission;

c. Review selected reports to advise the Oversight Group on their content and relevance;

d. Review ongoing scientific programs of North Slope Science Initiative (NSSI) member organizations on the North Slope at the request of the member organizations to promote compatibility in methodologies and compilation of data;

e. Advise the Oversight Group on how to ensure that scientific products generated through NSSI activities are of the highest technical quality;

f. Periodically review the North Slope Science Plan and provide recommendations for changes to the Oversight Group;

g. Provide recommendations for proposed NSSI funded inventory, monitoring and research activities to the Oversight Group;

h. Provide other scientific advice as requested by the Oversight Group; and

i. Coordinate with groups and committees appointed or requested by the Oversight Group to provide science advice, as needed.

The Executive Director, North Slope Science Initiative shall serve as the Designated Federal Officer of the Science Technical Advisory Panel.

Qualifications and Procedures Required for Nomination

All membership shall consist of professionals with advanced degrees and a minimum of five years of work experience in Alaska in their field of expertise, preferably in the North Slope region. Professionals will be selected from among those disciplines and entities described above. Any individual or organization may nominate one or more persons to serve on the Science Technical Advisory Panel. Members will be appointed for three-year terms. At the discretion of the Secretary of the Interior, Science Technical Advisory Panel members may be reappointed indefinitely.

How To Nominate

Individuals may nominate themselves to the Science Technical Advisory Panel. You may obtain nomination forms from the Executive Director, North Slope Science Initiative (see address above), or from http://www.northslope.org. To make a nomination, or self nominate, you must submit a completed nomination form with a letter of reference that describes the nominee's qualifications to serve on the Science Technical Advisory Panel. The professional discipline the nominee would like to represent should be identified in the letter of nomination and in the nomination form. Nominees may be scientists and technical experts from diverse professions and interests, including the oil and gas industry, subsistence users, Alaska Native entities, conservation organizations, and academia. Nominees selected to serve on the Science Technical Advisory Panel will serve only in their professional capacity and will not serve to represent any group, agency or entity with whom they may be affiliated. The Executive Director shall collect the nomination forms and letters of reference and distribute them to the Oversight Group of the North Slope Science Initiative. The Oversight Group will submit their recommendations through the Bureau of Land Management to the Secretary of the Interior who has the responsibility for making the appointments. Members of the Science Technical Advisory Panel will serve without monetary compensation. Members will be reimbursed for travel and per diem expenses at the current rate for Government employees.

Certification

I hereby certify that the establishment of the Science Technical Advisory Panel for the North Slope Science Initiative is necessary and in the public interest in connection with the Secretary of the Interior, and in compliance with Section 348, Energy Policy Act of 2005 (Pub. L. 109-58).

Thomas P. Lonnie,
State Director.

[FR Doc. E8-28366 Filed 11-26-08; 8:45 am]

BILLING CODE 4310-JA-P